DEPARTMENT OF THE INTERIOR

Bureau of Land Management

[BLM_OR_FRN_MO4500181093]

Public Meeting for the Steens Mountain Advisory Council, Oregon

AGENCY: Bureau of Land Management, Interior.

ACTION: Notice of public meeting.

SUMMARY: In accordance with the Federal Land Policy and Management Act of 1976 and the Federal Advisory Committee Act of 1972, the U.S. Department of the Interior, Bureau of Land Management's (BLM) Steens Mountain Advisory Council (SMAC) will meet as follows.

DATES: The SMAC will meet Thursday, October 10, 2024, from 10 a.m. to 4:30 p.m. Pacific time (PT), and Friday, October 11, 2024, from 8:30 a.m. to 12:30 p.m. PT.

ADDRESSES: The meeting will be held at the BLM Burns District Office at 28910 Highway 20 West, Hines, Oregon. A virtual participation option will also be available. The final meeting agenda and Zoom link for virtual participation will be published on the SMAC's web page at least 10 days in advance at https://on.doi.gov/2PnZRcl.

FOR FURTHER INFORMATION CONTACT: Tara Thissell, Public Affairs Specialist, BLM Burns District Office, 28910 Highway 20 West, Hines, Oregon 97738; telephone: (541) 573-4519; email: tthissell@blm.gov. Individuals in the United States who are deaf, deafblind, hard of hearing, or have a speech disability may dial 711 (TTY, TDD, or TeleBraille) to access telecommunications relay services. Individuals outside the United States should use the relay services offered within their country to make international calls to the point-of-contact in the United States. Please make requests in advance for sign language interpreter services, assistive listening devices, language translation services, or other reasonable accommodations. We ask that you contact the person listed above at least 14 business days prior to the meeting to give the Department of the Interior sufficient time to process your request. All reasonable accommodation requests are managed on a case-by-case basis.

SUPPLEMENTARY INFORMATION: The SMAC was established on August 14, 2001, pursuant to the Steens Mountain Cooperative Management and Protection Act of 2000 (Pub. L. 106-399) (Act). The SMAC provides recommendations to the BLM regarding new and unique approaches to the management of public lands within the bounds of the Steens Mountain Cooperative Management and Protection Area, recommends cooperative programs and incentives for landscape management that meet human needs, and advises the BLM on potential maintenance and improvement of the ecological and economic integrity of the area.

The Thursday, October 10, session includes information sharing from the Designated Federal Officer and the Andrews/Steens Field Manager, and updates on Inflation Reduction Act projects and 2024 recreation visitor use statistics. The SMAC may also discuss or hear information on the Bridge Creek Environmental Impact Statement, Natures Advocate, LLC, Inholder Access Environmental Assessment, fire and grazing for fuels management, and/or a recap of the 2024 wildfire season.

On Friday, October 11, the SMAC will discuss its inholder/edgeholder initiative and hear a presentation from the Burns Paiute Tribe about their culture and aboriginal homelands in the area. Council members also have the opportunity to share information from their constituents or present research. Any other matters that may reasonably come before the SMAC may also be included at any time throughout the two-day meeting.

This meeting is open to the public. Public comment periods are scheduled for 1:30 p.m. on Thursday, October 10, and 11:15 a.m. on Friday, October 11. Depending on the number of people wishing to comment and the time available, the amount of time for oral comments may be limited. Written public comments may be sent to the BLM Burns District Office listed in the FOR FURTHER INFORMATION CONTACT section of this notice. To allow for full consideration by SMAC members, written comments must be provided to Tara Thissell (see FOR FURTHER INFORMATION CONTACT) at least three (3) business days prior to the meeting. All comments received will be provided to the SMAC. The meeting may end early if all business items are completed ahead of schedule or may be extended if discussions warrant more time.

Public Disclosure of Comments: Before including your address, phone number, email address, or other personal identifying information in your comments, please be aware that your entire comment—including your personal identifying information—may be made publicly available at any time. While you can ask us in your comment to withhold your personal identifying information from public review, we cannot guarantee that we will be able to do so.

(Authority: 43 CFR 1784.4-1)

Donald Rotell,
Andrews/Steens Field Office Manager.

[FR Doc. 2024-20276 Filed 9-6-24; 8:45 am]

BILLING CODE 4331-24-P